DEPARTMENT OF HEALTH AND HUMAN SERVICES

Administration for Community Living

Agency Information Collection Activities; Submission for OMB Review; Public Comment Request; Centers for Independent Living Program Performance Report (0985-NEW)

AGENCY: Administration for Community Living (ACL), HHS.

ACTION: Notice.

SUMMARY: The Administration for Community Living (ACL) is announcing that the proposed collection of information listed above has been submitted to the Office of Management and Budget (OMB) for review and clearance as required under section 506(c)(2)(A) of the Paperwork Reduction Act of 1995. This 30-Day notice collects comments on the information collection requirements related to Centers for Independent Living Program Performance Report (New Data Collection (ICR New)).

DATES: Comments on the information collection request must be submitted electronically by 11:59 p.m. (EST) or postmarked by January 25, 2019.

ADDRESSES: Submit written comments on the collection of information by:

(a) email to: OIRA_submission@omb.eop.gov, Attn: OMB Desk Officer for ACL;

(b) fax to 202.395.5806, Attn: OMB Desk Officer for ACL; or

(c) by mail to the Office of Information and Regulatory Affairs, OMB, New Executive Office Bldg., 725 17th St. NW, Rm. 10235, Washington, DC 20503, Attn: OMB Desk Officer for ACL.

FOR FURTHER INFORMATION CONTACT: Peter Nye, Administration for Community Living, Washington, DC 20201, (202) 795-7606 or peter.nye@acl.hhs.gov.

SUPPLEMENTARY INFORMATION: In compliance with 44 U.S.C. 3507, ACL has submitted the following proposed collection of information to OMB for review and clearance. The Act of 1973 requires three Independent Living program reports: (1) State Plan for Independent Living, (2) Independent Living Services (ILS) Program Performance Report (PPR), and (3) Centers for Independent Living (CIL) PPR. The ILS PPR and CIL PPR were previously combined into one submission. However, for the purposes of this data collection, the ILS PPR and CIL PPR are being submitted separately because they are separate collections of different information from different parties. This will result in a new OMB approval number for the CIL program. Separating these PRA processes reduces confusion and increases the Independent Living Administration's (ILA) ability to identify issues specific to DSEs and Statewide Independent Living Councils. This request is for the CIL PPR, which is submitted annually by all CILs receiving Subchapter C funds. The CIL PPRs are used by ACL to assess grantees' compliance with title VII of the Act, with 45 CFR part 1329 of the Code of Federal Regulations, and with applicable provisions of the HHS Regulations at 45 CFR part 75. The CIL PPR serves as the primary basis for ACL's monitoring activities in fulfillment of its responsibilities under sections 706 and 722 of the Act. The CIL PPR enables ACL to track performance outcomes and efficiency measures of the CIL programs with respect to the annual and long-term performance targets established in compliance with GPRA. The PPR is also used by ACL to design CIL and SILC training and technical assistance programs authorized by section 721 of the Act.

The current version of the CIL PPR that ILA is requesting an extension for was approved by OMB, but will expire on December 31, 2018. ILA plans to publish a revised CIL program data collection instrument before the expiration of the extension request.

Comments in Response to the 60-Day Federal Register Notice

A notice was published in the Federal Register on October 19, 2018 (Vol. 83, Number 2018-22754; pp. 53064-53065).

We received a comment that applied to this notice, as indicated below.

Data collection form | Comment | ACL Response
One commenter asked whether ACL has an update on the publication of the revised CIL indicators | ACL has no update on the publication of the revised CIL indicators | No change has been made.

The proposed form(s) may be found on the ACL website at https://www.acl.gov/about-acl/public-input.

Estimated Program Burden

ACL estimates the burden of this collection of information as follows: 353 Centers for Independent Living will each complete one CIL PPR annually, and it will take an estimated 35 hours per CIL for an estimated total of 12,355 hours. This burden estimate is based partly on ILA's estimates of how long CILs take to find the information that PPRs ask for and partly on what CILs have told ILA about how long CILs spend filling out PPRs.

Table 37—Range to Effects (meters) From Air Guns for 1 Pulse
Respondent/data collection activity | Number of respondents | Responses per respondent | Hours per response | Annual burden hours
Centers for Independent Living | 353 | 1 | 35 | 12,355
Total | 353 | 1 | 35 | 12,355

Dated: December 18, 2018.
Mary Lazare,
Principal Deputy Administrator.

[FR Doc. 2018-27898 Filed 12-21-18; 8:45 am]

BILLING CODE 4154-01-P